DEPARTMENT OF ENERGY

Federal Energy Regulatory Commission

Combined Notice of Filings

Take notice that the Commission has received the following Natural Gas Pipeline Rate and Refund Report filings:

Filings Instituting Proceedings

Docket Number: PR18-39-000.

Applicants: Public Service Company of Colorado.

Description: Tariff filing per 284.123(b), (e)+(g): 20180327 SOR Update for Refund due to TCJA to be effective 3/1/2018.

Filed Date: 3/27/18.

Accession Number: 201803275001.

Comments Due: 5 p.m. ET 4/17/18.

284.123(g) Protests Due: 5 p.m. ET5/29/18.

Docket Number: RP18-276-000.

Applicants: Southern Star Central Gas Pipeline, Inc.

Description: Report Filing: Status Report and Motion to Suspend Technical Conference to be effective12/31/9998.

Filed Date: 3/28/18.

Accession Number: 20180328-5172.

Comments Due: 5 p.m. ET 4/6/18.

Docket Number: RP18-621-000.

Applicants: East Tennessee Natural Gas, LLC.

Description: East Tennessee Natural Gas, LLC submits the 2016-2017 Cashout Report.

Filed Date: 3/28/18.

Accession Number: 20180328-5254.

Comments Due: 5 p.m. ET 4/9/18.

Docket Number: RP18-628-000.

Applicants: Iroquois Gas Transmission System, L.P.

Description: § 4(d) Rate Filing: 032918 Negotiated Rates—Emera Energy Services, Inc. R-2715-34 to be effective 4/1/2018.

Filed Date: 3/29/18.

Accession Number: 20180329-5087.

Comments Due: 5 p.m. ET 4/10/18.

Docket Number: RP18-629-000.

Applicants: Hardy Storage Company, LLC.

Description: § 4(d) Rate Filing: RAM 2018 to be effective 5/1/2018.

Filed Date: 3/29/18.

Accession Number: 20180329-5110.

Comments Due: 5 p.m. ET 4/10/18.

Docket Number: RP18-630-000.

Applicants: Rover Pipeline LLC.

Description: § 4(d) Rate Filing: Non-Conforming Agreements—4 in compliance with CP15-93 Order to be effective 5/1/2018.

Filed Date: 3/29/18.

Accession Number: 20180329-5111.

Comments Due: 5 p.m. ET 4/10/18.

Docket Number: RP18-631-000.

Applicants: Texas Gas Transmission, LLC.

Description: § 4(d) Rate Filing: Cap Rel Neg Rate Agmts (RE Gas 35433, 34955 to BP 37059, 37060) to be effective 4/1/2018.

Filed Date: 3/29/18.

Accession Number: 20180329-5112.

Comments Due: 5 p.m. ET 4/10/18.

Docket Number: RP18-632-000.

Applicants: Texas Gas Transmission, LLC.

Description: § 4(d) Rate Filing: Cap Rel Neg Rate Agmt (EM Energy OH 35451 to BP 37065) to be effective4/1/2018.

Filed Date: 3/29/18.

Accession Number: 20180329-5113.

Comments Due: 5 p.m. ET 4/10/18.

Docket Number: RP18-633-000.

Applicants: Columbia Gas Transmission, LLC.

Description: § 4(d) Rate Filing: OTRA—Summer 2018 to be effective5/1/2018.

Filed Date: 3/29/18.

Accession Number: 20180329-5114.

Comments Due: 5 p.m. ET 4/10/18.

Docket Number: RP18-634-000.

Applicants: ANR Pipeline Company.

Description: § 4(d) Rate Filing: ANR Negotiated Rate Amendment to be effective 4/1/2018.

Filed Date: 3/29/18.

Accession Number: 20180329-5116.

Comments Due: 5 p.m. ET 4/10/18.

Docket Number: RP18-635-000.

Applicants: Gulf South Pipeline Company, LP.

Description: § 4(d) Rate Filing: Reservation of Capacity to be effective 5/1/2018.

Filed Date: 3/29/18.

Accession Number: 20180329-5117.

Comments Due: 5 p.m. ET 4/10/18.

Docket Number: RP18-636-000.

Applicants: Texas Eastern Transmission, LP.

Description: § 4(d) Rate Filing: Negotiated Rates—Chesapeake Amended 911041 to be effective4/1/2018.

Filed Date: 3/29/18.

Accession Number: 20180329-5119.

Comments Due: 5 p.m. ET 4/10/18.

Docket Number: RP18-637-000.

Applicants: Kern River Gas Transmission Company.

Description: § 4(d) Rate Filing: 2018 Daggett Surcharge on 5A.02 to be effective 4/1/2018.

Filed Date: 3/29/18.

Accession Number: 20180329-5121.

Comments Due: 5 p.m. ET 4/10/18.

Docket Numbers: RP18-638-000.

Applicants: El Paso Natural Gas Company, L.L.C.

Description: § 4(d) Rate Filing: Negotiated Rate Agreement Update (TEP May 18) to be effective 5/1/2018.

Filed Date: 3/29/18.

Accession Number: 20180329-5122.

Comments Due: 5 p.m. ET 4/10/18.

Docket Numbers: RP18-639-000.

Applicants: Kern River Gas Transmission Company.

Description: § 4(d) Rate Filing: 2018 Non-Conforming Agreement with LADWP to be effective 5/1/2018.

Filed Date: 3/29/18.

Accession Number: 20180329-5123.

Comments Due: 5 p.m. ET 4/10/18.

Docket Numbers: RP18-640-000.

Applicants: Rover Pipeline LLC.

Description: § 4(d) Rate Filing: Phase 2 In-service to be effective 5/1/2018.

Filed Date: 3/29/18.

Accession Number: 20180329-5163.

Comments Due: 5 p.m. ET 4/10/18.

Docket Numbers: RP18-642-000.

Applicants: Gas Transmission Northwest LLC.

Description: § 4(d) Rate Filing: Negotiated Rate Agreement—Mercuria to be effective 4/1/2018.

Filed Date: 3/29/18.

Accession Number: 20180329-5180.

Comments Due: 5 p.m. ET 4/10/18.

Docket Numbers: RP18-643-000.

Applicants: Portland Natural Gas Transmission System.

Description: § 4(d) Rate Filing: Northern Utilities Neg Rate Amdt to be effective 4/1/2018.

Filed Date: 3/29/18.

Accession Number: 20180329-5181.

Comments Due: 5 p.m. ET 4/10/18.

Docket Numbers: RP18-644-000.

Applicants: Northern Border Pipeline Company.

Description: § 4(d) Rate Filing: Negotiated Rate Agreement—Sequent to be effective 4/1/2018.

Filed Date: 3/29/18.

Accession Number: 20180329-5182.

Comments Due: 5 p.m. ET 4/10/18.

Docket Numbers: RP18-645-000.

Applicants: Columbia Gas Transmission, LLC.

Description: § 4(d) Rate Filing: COH Negotiated Rate Agreement to be effective 4/1/2018.

Filed Date: 3/29/18.

Accession Number: 20180329-5190.

Comments Due: 5 p.m. ET 4/10/18.

Docket Numbers: RP18-646-000.

Applicants: Maritimes & Northeast Pipeline, L.L.C.

Description: § 4(d) Rate Filing: Negotiated Rates—Enbridge Gas New Brunswick contract 1812 to be effective 4/1/2018.

Filed Date: 3/29/18.

Accession Number: 20180329-5194.

Comments Due: 5 p.m. ET 4/10/18.

Docket Numbers: RP18-647-000.

Applicants: Iroquois Gas Transmission System, L.P.

Description: § 4(d) Rate Filing: 032918 Negotiated Rates—ENGIE Energy Marketing NA, Inc. R-7855-02 to be effective 4/1/2018.

Filed Date: 3/29/18.

Accession Number: 20180329-5198.

Comments Due: 5 p.m. ET 4/10/18.

Docket Numbers: RP18-648-000.

Applicants: Southern Star Central Gas Pipeline, Inc.

Description: § 4(d) Rate Filing: Tariff Filing Adding Flexibility to Manage Service Agreements to be effective5/1/2018.

Filed Date: 3/29/18.

Accession Number: 20180329-5199.

Comments Due: 5 p.m. ET 4/10/18.

Docket Numbers: RP18-649-000.

Applicants: Iroquois Gas Transmission System, L.P.

Description: § 4(d) Rate Filing: 032918 Negotiated Rates—ENGIE Energy Marketing NA, Inc. R-7855-03 to be effective 4/1/2018.

Filed Date: 3/29/18.

Accession Number: 20180329-5201.

Comments Due: 5 p.m. ET 4/10/18.

Docket Numbers: RP18-650-000.

Applicants: El Paso Natural Gas Company, L.L.C.

Description: § 4(d) Rate Filing: Negotiated Rate Agreement Filing (GIGO) to be effective 4/1/2018.

Filed Date: 3/29/18.

Accession Number: 20180329-5203.

Comments Due: 5 p.m. ET 4/10/18.

Docket Numbers: RP18-651-000.

Applicants: El Paso Natural Gas Company, L.L.C.

Description: § 4(d) Rate Filing: Negotiated Rate Agreement Update Filing (Pioneer Apr 18) to be effective4/1/2018.

Filed Date: 3/29/18.

Accession Number: 20180329-5250.

Comments Due: 5 p.m. ET 4/10/18.

Docket Numbers: RP18-652-000.

Applicants: Pine Needle LNG Company, LLC.

Description: § 4(d) Rate Filing: 2018 Annual Fuel and Electric Power Tracker Filing to be effective 5/1/2018.

Filed Date: 3/29/18.

Accession Number: 20180329-5319.

Comments Due: 5 p.m. ET 4/10/18.

Docket Numbers: RP18-653-000.

Applicants: Columbia Gulf Transmission, LLC.

Description: § 4(d) Rate Filing: GXP Kaiser Interim Neg Rate Agmt to be effective 4/1/2018.

Filed Date: 3/30/18.

Accession Number: 20180330-5107.

Comments Due: 5 p.m. ET 4/11/18.

Docket Numbers: RP18-654-000.

Applicants: Northern Natural Gas Company.

Description: § 4(d) Rate Filing: 20180330 Negotiated Rate to be effective 4/1/2018.

Filed Date: 3/30/18.

Accession Number: 20180330-5145.

Comments Due: 5 p.m. ET 4/11/18.

Docket Numbers: RP18-655-000.

Applicants: Transcontinental Gas Pipe Line Company.

Description: § 4(d) Rate Filing: Negotiated Rates—Cherokee AGL—Replacement Shippers—Apr 2018 to be effective 4/1/2018.

Filed Date: 3/30/18.

Accession Number: 20180330-5144.

Comments Due: 5 p.m. ET 4/11/18.

Docket Numbers: RP18-656-000.

Applicants: El Paso Natural Gas Company, L.L.C.

Description: § 4(d) Rate Filing: Negotiated Rate Agreement Update Filing (APS Apr 18) to be effective4/1/2018.

Filed Date: 3/30/18.

Accession Number: 20180330-5146.

Comments Due: 5 p.m. ET 4/11/18.

Docket Numbers: RP18-657-000.

Applicants: Enable Gas Transmission, LLC.

Description: § 4(d) Rate Filing: Neg Rate Filing—April 2018 City of Winfield, KS, AOG 5193 to be effective 4/1/2018.

Filed Date: 3/30/18.

Accession Number: 20180330-5147.

Comments Due: 5 p.m. ET 4/11/18.

Docket Numbers: RP18-658-000.

Applicants: Trailblazer Pipeline Company LLC.

Description: § 4(d) Rate Filing: Neg Rate 2018-03-30 GP, Macquarie, Citadel to be effective 4/1/2018.

Filed Date: 3/30/18.

Accession Number: 20180330-5149.

Comments Due: 5 p.m. ET 4/11/18.

Docket Numbers: RP18-659-000.

Applicants: Algonquin Gas Transmission, LLC.

Description: § 4(d) Rate Filing: Negotiated Rates—Con Edison releases eff 4-1-2018 to be effective 4/1/2018.

Filed Date: 3/30/18.

Accession Number: 20180330-5150.

Comments Due: 5 p.m. ET 4/11/18.

Docket Numbers: RP18-660-000.

Applicants: Kern River Gas Transmission Company.

Description: Annual Gas Compressor Fuel Report of Kern River Gas Transmission Company.

Filed Date: 3/30/18.

Accession Number: 20180330-5104.

Comments Due: 5 p.m. ET 4/11/18.

Docket Numbers: RP18-661-000.

Applicants: Rockies Express Pipeline LLC.

Description: § 4(d) Rate Filing: Neg Rate 2018-03-30 ARM to be effective4/1/2018.

Filed Date: 3/30/18.

Accession Number: 20180330-5156.

Comments Due: 5 p.m. ET 4/11/18.

Docket Numbers: RP18-662-000.

Applicants: Rockies Express Pipeline LLC.

Description: § 4(d) Rate Filing: Neg Rate 2018-03-30 EQT to be effective4/1/2018.

Filed Date: 3/30/18.

Accession Number: 20180330-5158.

Comments Due: 5 p.m. ET 4/11/18.

Docket Numbers: RP18-663-000.

Applicants: Trailblazer Pipeline Company LLC.

Description: § 4(d) Rate Filing: Neg Rate 2018-03-30 Fortigen to be effective 4/1/2018.

Filed Date: 3/30/18.

Accession Number: 20180330-5261.

Comments Due: 5 p.m. ET 4/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 2, 2018.
Nathaniel J. Davis, Sr.,
Deputy Secretary.

[FR Doc. 2018-07020 Filed 4-5-18; 8:45 am]

BILLING CODE 6717-01-P